ENVIRONMENTAL PROTECTION AGENCY

40 CFR Part 52

[Region 2 Docket No. NJ56-250w, FRL-7559-3]

Approval and Promulgation of Implementation Plans; Reasonably Available Control Technology for Oxides of Nitrogen for Specific Sources in the State of New Jersey; Withdrawal of Direct Final Rule

AGENCY: Environmental Protection Agency (EPA).

ACTION: Withdrawal of direct final rule.

SUMMARY: Due to receipt of an adverse comment, EPA is withdrawing the direct final rule which approved revisions to the New Jersey State Implementation Plan for ozone. The direct final rule was published on August 11, 2003 (68 FR 47477), approving eight (8) source-specific reasonably available control technology (RACT) determinations for controlling oxides of nitrogen (NOX). As stated in the direct final rule, if adverse comments were received by September 10, 2003, a timely withdrawal would be published in the Federal Register. EPA subsequently received an adverse comment. EPA will address the comments in a subsequent final action based upon the proposed action also published on August 11, 2003 (68 FR 47532). EPA will not institute a second comment period on this action.

DATES: The direct final rule published at 68 FR 47477 is withdrawn on September 16, 2003.

FOR FURTHER INFORMATION CONTACT: Anthony (Ted) Gardella, Air Programs Branch, Environmental Protection Agency, 290 Broadway, 25th Floor, New York, New York 10007-1866, (212) 637-3892 or at Gardella.Anthony@epa.gov.

List of Subjects in 40 CFR Part 52

Environmental protection, Air pollution control, Incorporation by reference, Nitrogen dioxide, Ozone, Reporting and recordkeeping requirements.

Authority: 42 U.S.C. 7401 et seq.

Dated: September 4, 2003
Jane M. Kenny,
Regional Administrator, Region 2.

PART 52—[AMENDED]

Accordingly, the addition at 40 CFR 52.1570(c)(73) is withdrawn as of September 16, 2003.

[FR Doc. 03-23579 Filed 9-15-03; 8:45 am]

BILLING CODE 6560-50-U